DEPARTMENT OF TRANSPORTATION

Federal Aviation Administration

14 CFR Part 71

[Docket No. FAA-2018-0016; Airspace Docket No. 17-ANM-14]

RIN 2120-AA66

Proposed Amendment of Class D and Class E Airspace; Aspen, CO

AGENCY: Federal Aviation Administration (FAA), DOT.

ACTION: Notice of proposed rulemaking (NPRM).

SUMMARY: This action proposes to amend Class E airspace designated as an extension and Class E airspace extending upward from 700 feet above the surface at Aspen-Pitkin County Airport/Sardy Field, Aspen, CO, by realigning the Class E extension and removing the part-time Notice to Airmen (NOTAM) language from the legal description, and reducing the Class E airspace area extending upward from 700 feet above the surface and removing Class E airspace extending upward from 1,200 feet above the surface. This action would also update the airport's geographic coordinates in the associated Class D and E airspace areas to match the FAA's aeronautical database. These changes are necessary to accommodate airspace redesign for the safety and management of instrument flight rules (IFR) operations within the National Airspace System. Also, an editorial change would be made to the Class D airspace and Class E extension airspace legal descriptions replacing Airport/Facility Directory with the term Chart Supplement.

DATES: Comments must be received on or before June 25, 2018.

ADDRESSES: Send comments on this proposal to the U.S. Department of Transportation, Docket Operations, 1200 New Jersey Avenue SE, West Building Ground Floor, Room W12-140, Washington, DC, 20590; telephone: 1-800-647-5527, or (202) 366-9826. You must identify FAA Docket No. FAA-2018-0016; Airspace Docket No. 17-ANM-14, at the beginning of your comments. You may also submit comments through the internet at http://www.regulations.gov.

FAA Order 7400.11B, Airspace Designations and Reporting Points, and subsequent amendments can be viewed online at http://www.faa.gov/air_traffic/publications/. For further information, you can contact the Airspace Policy Group, Federal Aviation Administration, 800 Independence Avenue SW, Washington, DC 20591; telephone:

(202) 267-8783. The Order is also available for inspection at the National Archives and Records Administration (NARA). For information on the availability of FAA Order 7400.11B at NARA, call (202) 741-6030, or go to https://www.archives.gov/federal-register/cfr/ibr-locations.html

FAA Order 7400.11, Airspace Designations and Reporting Points, is published yearly and effective on September 15.

FOR FURTHER INFORMATION CONTACT: Tom Clark, Federal Aviation Administration, Operations Support Group, Western Service Center, 2200 S 216th St., Des Moines, WA 98198-6547; telephone (206) 213-2253.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend Class D and Class E airspace at Aspen-Pitkin County Airport/Sardy Field, Aspen, CO, to support IFR operations at the airport.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Persons wishing the FAA to acknowledge receipt of their comments on this notice must submit with those comments a self-addressed, stamped postcard on which the following statement is made: “Comments to Docket No. FAA-2018-0016; Airspace Docket No. 17-ANM-14”. The postcard will be date/time stamped and returned to the commenter.

All communications received before the specified closing date for comments will be considered before taking action on the proposed rule. The proposal contained in this notice may be changed in light of the comments received. A report summarizing each substantive public contact with FAA personnel concerned with this rulemaking will be filed in the docket.

Availability of NPRMs

An electronic copy of this document may be downloaded through the internet at http://www.regulations.gov. Recently published rulemaking documents can also be accessed through the FAA's web page at http://www.faa.gov/air_traffic/publications/airspace_amendments/.

You may review the public docket containing the proposal, any comments received, and any final disposition in person in the Dockets Office (see the ADDRESSES section for the address and phone number) between 9:00 a.m. and 5:00 p.m., Monday through Friday, except federal holidays. An informal docket may also be examined during normal business hours at the Northwest Mountain Regional Office of the Federal Aviation Administration, Air Traffic Organization, Western Service Center, Operations Support Group, 2200 S 216th St., Des Moines, WA 98198.

Availability and Summary of Documents for Incorporation by Reference

This document proposes to amend FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Proposal

The FAA is proposing an amendment to Title 14 Code of Federal Regulations (14 CFR) part 71 by modifying Class E airspace designated as an extension, Class E airspace extending upward from 700 feet above the surface, and updating the geographic coordinates for all Class D and E airspace areas at Aspen-Pitkin County Airport/Sardy Field, Aspen, CO.

Class E airspace designated as an extension would be realigned to that airspace within 3.5 miles west and 2.7 miles east (from 2.7 miles each side) of the 340° bearing (from 315°) from the Aspen-Pitkin County Airport/Sardy Field Airport, extending from the 4.3-mile radius to 7.8 miles north (from 7.4 miles northwest) of the airport. Also, the part-time NOTAM language would be removed from the legal description since the airspace is in effect continuously.

Class E airspace extending upward from 700 feet above the surface would be reduced to that airspace within 6.6 miles west and 3.2 miles east of the 354° bearing from the Aspen-Pitkin County Airport/Sardy Field Airport extending to 11.1 miles north of the airport (from a much larger rectangular area defined as beginning at lat. 39°04′00″ N, long. 106°40′02″ W; to lat. 39°04′00″ N, long. 107°44′02″ W; to lat. 39°39′00″ N, long. 107°44′02″ W; to lat. 39°39′00″ N, long. 106°40′02″ W, to the point of beginning). Also, Class E airspace extending upward from 1,200 feet would be removed as this airspace is wholly contained in the Denver Class E en route airspace area.

These changes are necessary to accommodate airspace redesign for the safety and management of IFR operations under standard instrument approach procedures at the airport. Also, an editorial change would be made to the Class D and Class E airspace legal descriptions replacing Airport/Facility Directory with the term Chart Supplement.

Class D and Class E airspace designations are published in paragraph 5000, 6002, 6004, and 6005, respectively, of FAA Order 7400.11B, dated August 3, 2017, and effective September 15, 2017, which is incorporated by reference in 14 CFR 71.1. The Class D and E airspace designations listed in this document will be published subsequently in the Order.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017, and effective September 15, 2017, is amended as follows:

Paragraph 5000 Class D Airspace.

* * * * *

ANM CO D Aspen, CO [Amended]

Aspen-Pitkin CountyAirport/Sardy Field, CO

(Lat. 39°13′19″ N, long. 106°52′06″ W)

That airspace extending upward from the surface to and including 10,300 feet mean sea level (MSL) within a 4.3-mile radius of Aspen-Pitkin County Airport/Sardy Field. This Class D airspace area is effective during the specific dates and times established in advance by a Notice to Airmen. The effective date and time will thereafter be continuously published in the Chart Supplement.

Paragraph 6002 Class E Airspace Designated as Surface Areas.

* * * * *

ANM CO E2 Aspen, CO [Amended]

Aspen-Pitkin County Airport/Sardy Field, CO

(Lat. 39°13′19″ N, long. 106°52′06″ W)

That airspace extending upward from the surface within a 4.3-mile radius of Aspen-Pitkin County Airport/Sardy Field. This Class E airspace area is effective during the specific dates and times established in advance by a Notice to Airmen. The effective date and time will thereafter be continuously published in the Chart Supplement.

Paragraph 6004 Class E Airspace Designated as an Extension to a Class D or Class E Surface Area.

* * * * *

ANM CO E4 Aspen, CO [Amended]

Aspen-Pitkin County Airport/Sardy Field, CO

(Lat. 39°13′19″ N, long. 106°52′06″ W)

That airspace extending upward from the surface within 3.5 miles west and 2.7 miles east of the 340° bearing from Aspen-Pitkin County Airport/Sardy Field, extending from the 4.3-mile radius to 7.8 miles north of the airport.

Paragraph 6005 Class E Airspace Areas Extending Upward From 700 Feet or More Above the Surface of the Earth.

* * * * *

ANM CO E5 Aspen, CO [Amended]

Aspen-Pitkin County Airport/Sardy Field, CO

(Lat. 39°13′19″ N, long. 106°52′06″ W)

That airspace extending upward from 700 feet above the surface within 6.6 miles west and 3.2 miles east of a 354° bearing from Aspen-Pitkin County Airport/Sardy Field extending to 11.1 miles north of the airport.

Issued in Seattle, Washington, on May 4, 2018.
Byron G. Chew,
Acting Manager, Operations Support Group, Western Service Center.

[FR Doc. 2018-09989 Filed 5-10-18; 8:45 am]

BILLING CODE 4910-13-P